DEPARTMENT OF THE TREASURY

Submission for OMB Review; Comment Request

July 20, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 27, 2007 to be assured of consideration.

Alcohol and Tobacco Tax and Trade Bureau (TTB)

OMB Number: 1513-0007.

Type of Review: Revision.

Title: Brewer's Report of Operations and Brew pub Report of Operations.

Forms: TTB 5130.9, 5130.26.

Description: Brewers periodically file these reports of their operations to account for activity relating to taxable commodities. TTB uses this information primarily for revenue protection, for audit purposes, and to determine whether the activity is in compliance with the requirements of law. We also use this information to publish periodical statistical releases of use and interest to the industry.

Respondents: Business and other for profits.

Estimated Total Burden Hours: 9,840 hours.

OMB Number: 1513-0015.

Type of Review: Revision.

Title: Brewer's Bond and Brewer's Bond Continuation Certificate/Brewer's Collateral Bond and Brewer's Collateral Bond Continuation Certificate.

Form: TTB 5130.22, 5130.23, 5130.25, 5130.27.

Description: The Internal Revenue Code requires brewers to give a bond to protect the revenue and to ensure compliance with the requirements of law and regulations. The Continuation Certificate is used to renew the bond every 4 years after the initial bond is obtained. Bonds and continuation certificates are required by law and are necessary to protect government interests in the excise tax revenues that brewers pay.

Respondents: Business and other for profits.

Estimated Total Burden Hours: 308 hours.

OMB Number: 1513-0095.

Type of Review: Revision.

Title: Application for Registration for Tax-Free Transactions Under 26 U.S.C. 4221.

Form: 5030.28.

Description: Businesses, State and local governments apply for registration to sell or purchase firearms or ammunition tax-free on this form. TTB uses the form to determine if a transaction is qualified for tax-free status.

Respondents: Business and other for profits.

Estimated Total Burden Hours: 951 hours.

Clearance Officer: Frank Foote, Alcohol and Tobacco Tax and Trade Bureau, Room 200 East, 1310 G Street, NW., Washington, DC 20005, (202) 927-9347.

OMB Reviewer: Alexander T. Hunt, Office of Management and Budget, Room 10235, New Executive Office Building, Washington, DC 20503, (202) 395-7316.

Robert Dahl,
Treasury PRA Clearance Officer.

[FR Doc. E7-14462 Filed 7-25-07; 8:45 am]

BILLING CODE 4810-31-P